DEPARTMENT OF HEALTH AND HUMAN SERVICES

[Document Identifier: OS-0990-Ne30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: Comprehensive Communication Campaign for HITECH Act— OMB No. 0990-NEW-Office National Coordinator for Health Information Technology (ONC).

Abstract: ONC requests OMB approval for a generic clearance for collecting information through a variety of research methods for developing and testing communications involving health information technology and health information privacy. This information will be used to assess the need for communications on specific topics and to assist in the development and modification of communication messages. ONC intends to utilize best practices for effective health communication research set forth by other DHHS agencies such as the National Cancer Institute.

ONC must also understand the general beliefs of physicians and healthcare adjuncts. Prescribers and technicians, including nurses, play a key role in the use of health information technology. ONC must determine their informational needs and the most effective communication channels and formats for reaching and educating them about the transition to an electronic records environment. This information will allow ONC to engage healthcare professionals as partners in the transition.

Table 1—Estimated Annual Reporting Burden, by Anticipated Data Collection Methods
| Number of respondents | Frequency of response | Hours per response | Total hours
General Public Focus Group Interviews | 144 | 1 | 1.50 | 216
Screening for General Public Focus Group Interviews | 2,160 | 1 | 10/60 | 360
Web usability testing sessions | 144 | 1 | 1.50 | 216
Screening for Web usability testing | 2,160 | 1 | 10/60 | 360
Self-Administered Surveys | 2,000 | 1 | 15/60 | 500
Screening for Self-Administered Surveys | 8,000 |  | 10/60 | 1,333
Omnibus Surveys | 2,000 | 1 | 10/60 | 333
TOTAL (General Public) | 16,608 |  |  | 3,318
Health Professional Focus Group Interviews | 144 | 1 | 1.50 | 216
Screening for Professional Focus Group Interviews | 2,160 | 1 | 10/60 | 360
Web usability testing sessions | 144 | 1 | 1.50 | 216
Screening for Web usability testing | 2,160 | 1 | 10/60 | 360
Self-Administered Surveys | 2,000 | 1 | 15/60 | 500
Screening for Self-Administered Surveys | 8,000 |  | 10/60 | 1,333
Omnibus Surveys | 2,000 | 1 | 10/60 | 333
Health Professional Individual In-Depth Interviews | 100 | 1 | 45/60 | 75
Screening for Health Professional Individual In-Depth Interviews | 1,000 | 1 | 10/60 | 167
TOTAL (Physician and Other Health Professional) | 17,708 |  |  | 3,560
TOTAL (Overall) | 34,316 |  |  | 6,878

Mary Forbes,
Paperwork Reduction Act Clearance Officer, Office of the Secretary.

[FR Doc. 2011-12337 Filed 5-18-11; 8:45 am]

BILLING CODE 4150-45-P